DEPARTMENT OF HOMELAND SECURITY

U.S. Customs and Border Protection

Approval of AmSpec LLC (Glen Burnie, MD) as a Commercial Gauger

AGENCY: U.S. Customs and Border Protection, Department of Homeland Security.

ACTION: Notice of approval of AmSpec LLC (Glen Burnie, MD), as a commercial gauger.

SUMMARY: Notice is hereby given, pursuant to CBP regulations, that AmSpec LLC (Glen Burnie, MD), has been approved to gauge petroleum and certain petroleum products for customs purposes for the next three years as of October 9, 2019.

DATES: AmSpec LLC (Glen Burnie, MD) was approved as a commercial gauger as of October 9, 2019. The next triennial inspection date will be scheduled for October 2022.

FOR FURTHER INFORMATION CONTACT: Dr. Eugene Bondoc, Laboratories and Scientific Services Directorate, U.S. Customs and Border Protection, 1300 Pennsylvania Avenue NW, Suite 1500N, Washington, DC 20229, tel. 202-344-1060.

SUPPLEMENTARY INFORMATION: Notice is hereby given pursuant to 19 CFR 151.13, that AmSpec LLC, 6750 McLean Way, Suite A, Glen Burnie, MD 21060, has been approved to gauge petroleum and certain petroleum products in accordance with the provisions of 19 CFR 151.13.

AmSpec LLC (Glen Burnie, MD) is approved for the following gauging procedures for petroleum and certain petroleum products from the American Petroleum Institute (API):

API chapters | Title
1 | Definitions.
3 | Tank Gauging.
7 | Temperature Determination.
8 | Sampling.
11 | Physical Properties Data.
12 | Calculations.
17 | Marine Measurement.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: April 30, 2020.
Larry D. Fluty,
Executive Director, Laboratories and Scientific Services.

[FR Doc. 2020-10948 Filed 5-20-20; 8:45 am]

BILLING CODE 9111-14-P